FEDERAL COMMUNICATIONS COMMISSION

47 CFR Parts 6 and 64

[WC Docket No. 04-36, CG Docket No. 03-123, WT Docket No. 96-198 and CC Docket No. 92-105; FCC 07-110]

IP-Enabled Services; Implementation of Sections 255 and 251(a)(2) of The Communications Act of 1934, as Enacted by The Telecommunications Act of 1996: Access to Telecommunications Service, Telecommunications Equipment and Customer Premises Equipment by Persons with Disabilities; Telecommunications Relay Services and Speech-to-Speech Services for Individuals With Hearing and Speech Disabilities

AGENCY: Federal Communications Commission.

ACTION: Final rule.

SUMMARY: In this document, the Commission amends it rules to remove notes contained in the Access to Telecommunications Service, Telecommunications Equipment and Customer Premises Equipment by Persons with Disabilities rules, and the Miscellaneous Rules Relating to Common Carriers. The notes indicated that the Commission would publish notice of the effective date of the rules after it obtained OMB approval. Since the Commission announced the effective date of the rules in the Federal Register, the notes are no longer applicable.

DATES: Effective April 21, 2008.

FOR FURTHER INFORMATION CONTACT: Lisa Boehley of the Consumer & Governmental Affairs Bureau at (202) 418-7395 (voice), (202) 418-0416 (TTY), or e-mail lisa.boehley@fcc.gov.

SUPPLEMENTARY INFORMATION: On August 6, 2007, the Commission published final rules in the Federal Register at 72 FR 43546, which extended the disability access requirements that apply to telecommunications service providers and equipment manufacturers under section 255 of the Communications Act of 1934, as amended, to providers of “interconnected voice over Internet Protocol (VoIP) services,” as defined by the Commission, and to manufacturers of specially designed equipment used to provide those services. In addition, the Commission extended the Telecommunications Relay Services (TRS) requirements contained in its regulations to interconnected VoIP providers. This document amends § 6.11(a)-(b), 6.18(b), 6.19, 64.604(a)(5), 64.604(c)(1)-(c)(3), 64.604(c)(5)(iii)(C), 64.604(c)(5)(iii)(E), 64.604(c)(5)(iii)(G), 64.604(c)(6)(v)(A)(3), 64.604(c)(6)(v)(G), 64.604(c)(7), and 64.606(b), by removing the notes contained in those rule sections as they appeared in the Federal Register.

List of Subjects in 47 CFR Part 64

Individuals with disabilities, Telecommunications.

Federal Communications Commission.
Marlene H. Dortch,
Secretary.

Rule Changes

For the reasons discussed in the preamble, the Federal Communications Commission amends 47 CFR parts 6 and 64 as follows:

PART 6—ACCESS TO TELECOMMUNICATIONS SERVICE, TELECOMMUNICATIONS EQUIPMENT AND CUSTOMER PREMISES EQUIPMENT BY PERSONS WITH DISABILITIES

1. The authority citation for part 6 continues to read as follows:

Authority: 47 U.S.C. 151-154, 251, 255, and (303)(r).

§ 6.11 [Amended]

2. Section 6.11 is amended by removing the notes to paragraphs (a) and (b).

§ 6.18 [Amended]

3. Section 6.18 is amended by removing the note to paragraph (b).

§ 6.19 [Amended]

4. Section 6.19 is amended by removing the note to § 6.19.

PART 64—MISCELLANEOUS RULES RELATING TO COMMON CARRIERS

5. The authority citation for part 64 continues to read as follows:

Authority: 47 U.S.C. 154, 254(k); secs. 403(b)(2)(B), (c), Pub. L. 104-104, 110 Stat. 56. Interpret or apply 47 U.S.C. 201, 218, 222, 225, 226, 228, and 254(k) unless otherwise noted.

§ 64.604 [Amended]

6. Section 64.604 is amended by removing the notes to paragraphs (a)(5), (c)(1) through (c)(3), (c)(5)(iii)(C), (c)(5)(iii)(E), (c)(5)(iii)(G), (c)(6)(v)(A)(3), (c)(6)(v)(G), and (c)(7).

§ 64.606 [Amended]

7. Section 64.606 is amended by removing the note to paragraph (b).

[FR Doc. E8-8596 Filed 4-18-08; 8:45 am]

BILLING CODE 6712-01-P